NUCLEAR REGULATORY COMMISSION

[Docket No. 40-8968-ML-REN, ASLBP No. 03-809-01-ML-REN]

Hydro Resources, Inc.; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Hydro Resources, Inc., Crownpoint Uranium Project, Crownpoint, New Mexico, (Materials License Renewal).

The hearing will be conducted pursuant to 10 CFR part 2, subpart L, of the Commission's Regulations, “Informal Hearing Procedures for Adjudications in Materials and Operator Licensing Proceedings.” This proceeding concerns a request for hearing and petition for leave to intervene submitted by Bonnie Benally Yazzie on January 14, 2003, in response to a notice of timely receipt and consideration of an application of Hydro Resources, Inc., for renewal of its 10 CFR part 40 source materials license for uranium production at the Crownpoint Uranium Project, Crownpoint, New Mexico. The notice of opportunity to provide comments and to request a hearing was published in the Federal Register on December 16, 2002 (67 FR 77,084).

The Presiding Officer in this proceeding is Administrative Judge Thomas S. Moore. Pursuant to the provisions of 10 CFR 2.722, 2.1209, Administrative Judge Thomas D. Murphy has been appointed to assist the Presiding Officer in taking evidence and in preparing a suitable record for review.

All correspondence, documents, and other materials shall be filed with Judges Moore and Murphy in accordance with 10 CFR 2.1203. Their addresses are:

Thomas S. Moore, Administrative Judge, Presiding Officer, Atomic Safety and Licensing Board Panel, U.S. Nuclear Regulatory Commission, Washington, DC 20555-0001.

Thomas D. Murphy, Administrative Judge, Special Assistant, Atomic Safety and Licensing Board Panel, U.S. Nuclear Regulatory Commission, Washington, DC 20555-0001.

Issued at Rockville, Maryland, this 4th day of February 2003.
G. Paul Bollwerk, III,
Chief Administrative Judge, Atomic Safety and Licensing Board Panel.

[FR Doc. 03-3231 Filed 2-7-03; 8:45 am]

BILLING CODE 7590-01-P